CONSUMER PRODUCT SAFETY COMMISSION

Sunshine Act Meeting

AGENCY: U.S. Consumer Product Safety Commission.

“FEDERAL REGISTER” CITATION OF PREVIOUS ANNOUNCEMENT: Vol. 65, No. 13, Thursday, January 20, 2000, page 3208.

PREVIOUSLY ANNOUNCED TIME AND DATE OF MEETING: 2:00 p.m., Wednesday, January, 26, 2000.

CHANGES IN MEETING: The closed Commission briefing on the Compliance Status Report was not held due to the agency closing because of a weather emergency. The meeting has been rescheduled for Thursday, February 3, 2000 at 10:00 a.m.

For a recorded message containing the latest agenda information, call (301) 504-0709.

CONTACT PERSON FOR ADDITIONAL INFORMATION: Sadye E. Dunn, Office of the Secretary, 4330 East West Highway, Bethesda, MD 20207, (301) 504-0800.

Dated: January 31, 2000.
Sadye E. Dunn,
Secretary.

[FR Doc. 00-2437 Filed 1-31-00; 3:03 pm]

BILLING CODE 6355-01-M